DEPARTMENT OF COMMERCE

National Oceanic and Atmospheric Administration

[I.D. 081001F]

North Pacific Fishery Management Council; Public Meetings

AGENCY: National Marine Fisheries Service (NMFS), National Oceanic and Atmospheric Administration (NOAA), Commerce.

ACTION: Meetings of the North Pacific Fishery Management Council (Council) and its advisory committees.

SUMMARY: The North Pacific Fishery Management Council (Council) and its advisory committees will hold public meetings.

DATES: The meetings will be held on September 5-9, 2001. See SUPPLEMENTARY INFORMATION for specific dates and times.

ADDRESSES: All meetings will be held at the Harrigan Centennial Hall, 330 Harbor Drive, Sitka, AK.

Council address: North Pacific Fishery Management Council, 605 W. 4th Ave., Suite 306, Anchorage, AK 99501-2252.

FOR FURTHER INFORMATION CONTACT: Council staff, telephone: 907-271-2809.

SUPPLEMENTARY INFORMATION: The Council’s Scientific and Statistical Committee (SSC) will begin at 8 a.m. on Wednesday, September 5, and continue through Thursday, September 6. The Advisory Panel (AP) will begin at 8 a.m., Thursday, September 6, and continue through Saturday, September 8, 2001. The Council will begin its plenary session at 8 a.m. on Friday, September 7, continuing through Sunday, September 9, 2001. All meetings are open to the public except executive sessions which may be held during the week at which the Council may discuss personnel issues and/or current litigation.

Council: The sole purpose of these meetings is to review the Draft Supplemental Environmental Impact Statement (DSEIS) and associated Draft Biological Opinion (BiOp) for Steller sea lion protection measures in the Federal groundfish fisheries off Alaska, and send them out for public review. The agenda for the SSC, AP, and Council will consist of staff reports on Steller sea lion issues and initial review of Reasonable and Prudent Alternatives for management of the 2002 Gulf of Alaska and Bering Sea/Aleutian Islands groundfish fisheries. Final action will be taken at the Council’s October 3-8, 2001 meeting in Seattle, Washington.

Newly-appointed Council members will also be sworn in at the meeting and the Council will elect a Chair and Vice-chair for the next year.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen at 907-271-2809 at least 7 working days prior to the meeting date.

Dated: August 10, 2001.
Richard W. Surdi,
Acting Director, Office of Sustainable Fisheries, National Marine Fisheries Service.

[FR Doc. 01-20919 Filed 8-17-01; 8:45 am]

BILLING CODE 3510-22-S